DEPARTMENT OF TRANSPORTATION

Surface Transportation Board

[STB Finance Docket No. 33746]

Mississippi Rail Group, Inc.—Lease Exemption—State of Mississippi

Mississippi Rail Group, Inc. (MRG), a Class III rail carrier, has filed a notice of exemption under 49 CFR 1150.41 to lease from the State of Mississippi approximately 21.4 miles of rail line from milepost 0.2, at Aberdeen Junction, to milepost 21.66, at Kosciusko, in Holmes and Attala Counties, MS. MRG will be the operator of the line.

MRG states that the lease of the rail line was consummated on or about October 27, 1998. MRG filed its verified notice of exemption with the Board on February 14, 2000. Thus, the effective date of the exemption is February 21, 2000 (7 days after the exemption was filed).

If the notice contains false or misleading information, the exemption is void ab initio. Petitions to revoke the exemption under 49 U.S.C. 10502(d) may be filed at any time. The filing of a petition to revoke does not automatically stay the transaction.

An original and 10 copies of all pleadings, referring to STB Finance Docket No. 33746, must be filed with the Surface Transportation Board, Office of the Secretary, Case Control Unit, 1925 K Street, N.W., Washington, DC 20423-0001. In addition, a copy of each pleading must be served on Mr. David E. Delatte, Sr., President, Mississippi Rail Group, Inc., P.O. Box 278, Kosciusko, MS 39090.

Board decisions and notices are available on our website at “WWW.STB.DOT.GOV.”

Decided: February 24, 2000.
By the Board, David M. Konschnik, Director, Office of Proceedings.
Vernon A. Williams,
Secretary.

[FR Doc. 00-4924 Filed 3-1-00; 8:45 am]

BILLING CODE 4915-00-P